DEPARTMENT OF AGRICULTURE

Food Safety and Inspection Service

[Docket No. FSIS-2006-0011E]

Harvard Risk Assessment of Bovine Spongiform Encephalopathy (BSE) Update; Notice of Availability and Technical Meeting

AGENCY: Food Safety and Inspection Service, USDA.

ACTION: Notice of availability; reopening and extension of comment period.

SUMMARY: The Food Safety and Inspection Service (FSIS) is reopening and extending the comment period for the 2005 updated Harvard Risk Assessment of bovine spongiform encephalopathy (BSE). The original comment period closed on August 11, 2006. The Agency is taking this action in response to a comment that was submitted after the Agency held its July 25, 2006, technical meeting to provide information on the updated risk assessment model and report.

DATES: Comments are due by October 27, 2006.

ADDRESSES: Comments may be submitted by any of the following methods:

Federal eRulemaking Portal: This Web site provides the ability to type short comments directly into the comment field on this Web page or attach a file for lengthier comments. Go to http://www.regulations.gov and, in the “Search for Open Regulations” box, select “Food Safety and Inspection Service” from the agency drop-down menu, and then click on “Submit.” In the Docket ID column, select FDMS Docket Number FSIS-2005-0011 to submit or view public comments and to view supporting and related material available electronically. This docket can be viewed using the “Advanced Search” function in Regulations.gov.

Mail, including floppy disks or CD-ROM's, and hand or courier-delivered items: Send to Docket Clerk, U.S. Department of Agriculture, Food Safety and Inspection Service, 300 12th Street, SW., Room 102 Cotton Annex, Washington, DC 20250.

Electronic mail: FSIS.regulationscomments@fsis.usda.gov.

All submissions received by mail and electronic mail must include the Agency name and docket number FSIS-2006-0011. All comments submitted in response to this notice will be available for public inspection in the FSIS Docket Room at the address listed above between 8:30 a.m. and 4:30 p.m., Monday through Friday. The comments also will be posted to the regulations.gov Web site and on the Agency's Web site at http://www.fsis.usda.gov/regulations_&_policies/2006_Proposed_Rules_Index/index.asp.

FOR FURTHER INFORMATION CONTACT: Lynn E. Dickey, PhD, Director, Regulations and Petitions Policy Staff, Office of Policy, Program, and Employee Development, Room 112, Cotton Annex, 300 12th Street, SW., Washington, DC 20250-3700; Telephone (202) 720-5627.

SUPPLEMENTARY INFORMATION: On July 12, 2006, FSIS published a notice in the Federal Register announcing that the Agency was making the 2005 updated Harvard Risk Assessment of BSE available to the public. In the notice, FSIS gave the public until August 11, 2006, to submit comments on the updated risk assessment. The notice also announced that the Agency would be holding a technical meeting to provide information on the 2005 updated Harvard Risk Assessment. This meeting was held on July 25, 2006.

On August 1, 2006, FSIS received a comment requesting that the Agency extend the comment period on the updated Harvard Risk Assessment until 45 days from the day on which it makes the transcript of the July 25, 2006, technical meeting publicly available. The comment was submitted by a trade association that represents small cattle producers. The comment asserted that the 30-day comment period provided in the July 12, 2006, Federal Register notice is not an adequate amount of time to evaluate the new assumptions and analyses in the revised risk assessment, and that it needed the official transcript of the technical meeting proceedings to formulate its comments.

FSIS agrees that the matters presented in the risk assessment are complex. Therefore, FSIS is reopening the comment period for 45 days as the transcript of the July 25, 2006, technical meeting is now available on the FSIS Web site at http://www.fsis.usda.gov/PDF/BSE_Transcript_072506.pdf and http://www.fsis.usda.gov/News_&_Events/2006_events/index.asp. This comment period will provide time for interested persons to fully assess the complex information presented at the technical meeting and to make written comments based upon their assessments.

Additional Public Notification

Public awareness of all segments of rulemaking and policy development is important. Consequently, in an effort to ensure that the public and in particular minorities, women, and persons with disabilities, are aware of this proposal, FSIS will announce it on-line through the FSIS Web page located at http://www.fsis.usda.gov/regulations_&_policies/2006_Proposed_Rules_Index/index.asp.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/.

Options range from recalls to export information to regulations, directives and notices. Customers can add or delete subscriptions themselves and have the option to password protect their account.

Done in Washington, DC, September 6, 2006.
Barbara J. Masters,
Administrator.

[FR Doc. E6-15017 Filed 9-11-06; 8:45 am]

BILLING CODE 3410-DM-P